DEPARTMENT OF TRANSPORTATION

Federal Aviation Administration

Office of Commercial Space Transportation; Notice of Availability of the Final Supplemental Environmental Assessment and Finding of No Significant Impact to the September 2008 Environmental Assessment for Space Florida Launch Site Operator License, Brevard County, FL

AGENCY: The Federal Aviation Administration (FAA), lead Federal agency and United States Air Force, cooperating agency.

ACTION: Notice of Availability of Final SEA and FONSI.

SUMMARY: In accordance with National Environmental Policy Act of 1969 (NEPA), as amended (42 U.S.C. 4321 et seq.), Council on Environmental Quality NEPA implementing regulations (40 CFR Parts 1500-1508), and FAA Order 1050.1E, Change 1, the FAA is announcing the availability of the Final Supplemental Environmental Assessment (Final SEA) and Finding of No Significant Impact (FONSI) to the September 2008 Environmental Assessment for Space Florida Launch Site Operator License. The Final SEA was prepared in response to an application for a Launch Site Operator License from Space Florida. Under the Proposed Action, the FAA would issue a Launch Site Operator License to Space Florida to operate a commercial space launch site at Launch Complex 36 (LC-36) and LC-46 at Cape Canaveral Air Force Station (CCAFS) in Brevard County, Florida. The license would allow Space Florida to support vertical launches of both solid and liquid propellant launch vehicles from LC-36 and LC-46. LC-46 is the easternmost launch complex at CCAFS, located at the tip of Cape Canaveral, and LC-36 is located in the east-central portion of CCAFS. The Final SEA addresses the potential environmental impacts of issuing a Launch Site Operator License for the Proposed Action and the No Action Alternative.

The FAA has posted the Final SEA and FONSI on the FAA Office of Commercial Space Transportation Web site at http://www.faa.gov/about/office_org/headquarters_offices/ast/. In addition, copies of the Final SEA and FONSI were sent to persons and agencies on the distribution list (found in Chapter 8 of the Final SEA). A paper copy and a CD version of the Final SEA and FONSI may be reviewed during regular business hours at the following locations:

Titusville Public Library, 2121 S. Hopkins Ave., Titusville, FL 32780.

Cocoa Beach Public Library, 550 North Brevard Ave, Cocoa Beach, FL 32931.

Cape Canaveral Public Library, 201 Polk Avenue, Cape Canaveral, FL 32920.

Merritt Island Public Library, 1195 North Courtenay Parkway, Merritt Island, FL 32953.

Additional Information

Under the Proposed Action, the FAA would issue a Launch Site Operator License to Space Florida to operate LC-36 and LC-46 as a commercial space launch site for vertical launches of both solid and liquid propellant launch vehicles. The proposed activities at LC-46 remain consistent with those analyzed in the 2008 EA which analyzed the potential environmental impacts of the FAA issuing a Launch Site Operator License to Space Florida to operate a commercial space launch site at LC-46. The 2008 EA analyzed the operation of several types of vertical launch vehicles from LC-46, including Athena-1 and Athena-2, Minotaur, Taurus, Falcon 1, Alliant Techsystems small launch vehicles, and other Castor® 120-based or Minuteman-derivative booster vehicles.

The Proposed Action also includes construction and operation activities to redevelop LC-36 into commercial space launch site. The Final SEA expands on the analysis provided in the 2008 EA to include an analysis of the potential environmental impacts of the construction and operation activities associated with the redevelopment of LC-36 into a commercial space launch site. Redeveloping LC-36 into a multi-use commercial space launch site involves construction of facilities to launch a Generic Launch Vehicle (GLV), which is a conceptual (or “surrogate”) liquid propellant medium class launch vehicle with a solid propellant second stage, and a bipropellant third stage, used for the purposes of the environmental review. Redevelopment activities at LC-36 would include building access roads; erecting a security fence; reconstituting several existing facilities; constructing an elevated launch deck, associated flame ducts, water storage tank, and water deluge containment pool; and installing electrical, communication, and air systems. Redevelopment would occur in phases dictated by costs and schedule, and facility construction or modifications would take place only on previously disturbed ground. The only alternative to the Proposed Action is the No Action Alternative. Under this alternative, the FAA would not issue a Launch Site Operator License to Space Florida for commercial launches from LC-36 and LC-46 at CCAFS.

Resource areas were considered to provide a context for understanding and assessing the potential environmental effects of the Proposed Action, with attention focused on key issues. The resource areas considered in the Final SEA included air quality; biological resources (terrestrial vegetation and wildlife, marine species, and protected species); compatible land use (land use, light emissions, visual resources, and coastal resources); cultural resources and Section 4(f) properties; hazardous materials, solid waste, and pollution prevention; noise; socioeconomic resources; and water resources (surface water, groundwater, floodplains, and wetlands). Potential cumulative impacts of the Proposed Action are also addressed in the Final SEA.

The FAA published a Notice of Availability of the Draft SEA in the Federal Register on April 1, 2010, which started a 30-day public review and comment period. One written comment was received during the public comment period. The Final SEA responds to all substantive comments and includes any changes or edits resulting from the comments received.

FOR FURTHER INFORMATION CONTACT: Mr. Daniel Czelusniak, Environmental Specialist, Federal Aviation Administration, 800 Independence Avenue, SW., Suite 331, Washington, DC 20591, by e-mail at Daniel.Czelusniak@faa.gov, or by phone at (202) 267-5924.

Issued in Washington, DC on July 23, 2010.
Michael McElligott,
Manager, Space Systems Development Division.

[FR Doc. 2010-18746 Filed 7-30-10; 8:45 am]

BILLING CODE 4910-13-P